DEPARTMENT OF THE INTERIOR

Bureau of Land Management

[UT-030-1652-00]

Notice of Intent To Prepare an Environmental Impact Statement for Livestock Grazing Management on Allotments Administered by the Bureau of Land Management, Grand Staircase-Escalante National Monument, Utah

(A plan amendment may be required because alternatives considered could, if selected, modify grazing management currently administered under existing Management Framework Plans)

AGENCY: Bureau of Land Management, Interior.

ACTION: Notice of Intent to Prepare an Environmental Impact Statement (EIS) and notice to conduct scoping for livestock grazing management on allotments administered by the Bureau of Land Management (BLM), Grand Staircase-Escalante National Monument (GSENM), Kane and Garfield Counties, Utah.

A plan amendment to the BLM Paria, Vermilion, Zion, and Escalante Management Framework Plans (MFPs) may be required because alternatives considered during the preparation of the EIS could, if selected, modify grazing management and allocations currently managed under portions of the MFPs.

SUMMARY: Pursuant to Section 102(2)(C) of the National Environmental Policy Act of 1969, the BLM, Grand Staircase-Escalante National Monument will be preparing an EIS to analyze the impacts of domestic livestock grazing through renewing grazing permits on 76 allotments managed by GSENM.

The issues anticipated include: (1) Potential impacts to vegetative communities, wildlife, riparian/wetland areas, and soil resources; (2) potential impacts to archaeological, historic, and paleontological resources; (3) potential impacts to recreation activities; (4) potential impacts to the socio-economics of Kane and Garfield Counties; (5) potential impacts on grazing permittees.

Alternatives identified at this time include: (1) issuing livestock grazing permits based on the present permittee applications for permit renewal; (2) issuing new permits with the same terms and conditions as the expiring permits (No Action Alternative); (3) issuing a new permit with modifications to the existing terms and conditions; and (4) a no grazing alternative.

DATES: This notice announces the beginning of the public scoping period. If you have information, data or concerns related to the potential impacts of livestock grazing management or have suggestions for additional alternatives, please submit them to address below. Public scoping comments will be accepted on or before November 15, 2000. Three public scoping open house information sessions will be held on:

—September 18, 2000, 7-9 pm, Kanab, Utah;

—September 20, 2000, 7-9 pm, Salt Lake City, Utah; and

—October 4, 2000, 7-9 pm, Escalante, Utah.

ADDRESSES: Written scoping comments should be sent to: Monument Manager, Bureau of Land Management, Grand Staircase-Escalante National Monument, 180 West 300 North, Kanab, Utah 84741, ATTN: Livestock Grazing EIS. Public scoping open house locations are:

—Kanab City Library, 533 East 300 South, Kanab, Utah;

—Salt Lake City Marriott University Park Hotel—Ballroom 1, 480 Wakara Way, Salt Lake City, Utah; and

—Escalante Community Center, 85 North 100 West, Escalante, Utah.

FOR FURTHER INFORMATION CONTACT: GSENM, Chris Killingsworth, Assistant Monument Manager Biological Resources, 180 West 300 North, Kanab, Utah 84741, telephone (435) 644-4300.

SUPPLEMENTARY INFORMATION: The EIS will cover permit renewal and grazing management on 76 allotments managed by GSENM, including allotments within Glen Canyon National Recreation Area and on adjoining BLM lands. This process will conform with the regulations for grazing public rangelands, the fundamentals for rangeland health, and Utah's Standards for Rangeland Health and Guidelines for Grazing Management. Comments, including names and street addresses of respondents will be available for public review at the BLM Grand Staircase-Escalante National Monument Office in Kanab, Utah and will be subject to disclosure under the Freedom of Information Act (FOIA). They may be published as part of the EIS and other related documents. Individual respondents may request confidentiality. If you wish to withhold your name or street address from public review and disclosure under the FOIA, you must state this prominently at the beginning of your written comment. Such requests will be honored to the extent allowed by law. All submissions from organizations or businesses will be made available for public inspection in their entirety.

Sally Wisely,
Utah State Director.

[FR Doc. 00-22289 Filed 8-30-00; 8:45 am]

BILLING CODE 4310-DQ-P